DEPARTMENT OF ENERGY

Federal Energy Regulatory Commission

[Project No. 13353-000]

Riverbank Sparta, LLC; Notice of Preliminary Permit Application Accepted for Filing and Soliciting Comments, Motions To Intervene, and Competing Applications

April 2, 2009.

On January 21, 2009, Riverbank Sparta, LLC, filed an application pursuant to section 4(f) of the Federal Power Act, proposing to study the feasibility of the Sparta Pumped Storage Project No. 13353-000, to be located at the Limecrest Quarry in Sparta Township, Sussex County, New Jersey.

The proposed Sparta Pumped Storage Project would consists of: (1) The existing Limecrest Quarry (upper reservoir); (2) four new 13-foot-diameter vertical penstocks leading to a powerhouse 2,000 feet underground; (3) a new powerhouse containing four 250-megawatt (MW) generating units with a total installed capacity of 1,000 MW; (4) water leaving the turbines, would temporarily be stored in six new underground storage galleries (lower reservoir); (5) a new 5.7-mile-long, 500 kV double circuit transmission line; and (6) appurtenant facilities. The estimated average annual energy production is 2,190 gigawatt-hours.

Applicant Contact: Mr. John Douglas, President and CEO; c/o Riverbank Power Corporation; Royal Bank Plaza; South Tower, Box 166; 200 Bay Street, Suite 3110; Toronto, Ontario; M5J2J4 Canada; 416-861-0092 ext. 156.

FERC Contact: Patrick Murphy, (202) 502-8755.

Deadline for filing comments, motions to intervene, competing applications (without notices of intent), or notices of intent to file competing applications: 60 days from the issuance date of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the “eLibrary” link of Commission's Web site at http://www.ferc.gov/docs-filing/elibrary.asp. Enter the docket number (P-13353) in the docket number field to access the document. For assistance, call toll-free 1-866-208-3372.

Kimberly D. Bose,
Secretary.

[FR Doc. E9-8050 Filed 4-8-09; 8:45 am]

BILLING CODE 6717-01-P